DEPARTMENT OF COMMERCE

Foreign-Trade Zones Board

[Order No. 1833]

Approval for Manufacturing Authority; Foreign-Trade Zone 15; Blount, Inc. (Log Splitters); Kansas City, MO

Pursuant to its authority under the Foreign-Trade Zones Act of June 18, 1934, as amended (19 U.S.C. 81a-81u), the Foreign-Trade Zones Board (the Board) adopts the following Order:

Whereas, the Greater Kansas City Foreign Trade Zone, Inc., grantee of Foreign-Trade Zone 15, has requested manufacturing authority on behalf of Blount, Inc., within FTZ 15 in Kansas City, Missouri, (FTZ Docket 76-2011, filed 11-29-2011);

Whereas, notice inviting public comment has been given in the Federal Register (76 FR 76122, 12-6-2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application for manufacturing authority under zone procedures within FTZ 15 on behalf of Blount, Inc. as described in the application and Federal Register notice, is approved, subject to the FTZ Act and the Board's regulations, including Section 400.13.

Signed at Washington, DC, this 18th day of June 2012.
Paul Piquado,
Assistant Secretary of Commerce for Import Administration, Alternate Chairman, Foreign-Trade Zones Board.

ATTEST:

Elizabeth Whiteman,
Acting Executive Secretary.

[FR Doc. 2012-15728 Filed 6-26-12; 8:45 am]

BILLING CODE P